DEPARTMENT OF ENERGY

Federal Energy Regulatory Commission

[Docket No. RP02-568-000]

Black Marlin Pipeline Company; Notice of Tariff Filing

October 2, 2002.

Take notice that on September 30, 2002, Black Marlin Pipeline Company (Black Marlin) tendered for filing in its FERC Gas Tariff First Revised Volume No. 1, the tariff sheets listed on Attachment A to the filing. The tariff sheets are proposed to be effective November 1, 2002.

Black Marlin states that the purpose of the tariff filing is to: (1) Update the information in the tariff regarding whom customers and interested parties can contact; (2) replace references in the tariff to an electronic bulletin board with information regarding Black Marlin's Internet Web site; and (3) incorporate a cash-out mechanism for transportation gas imbalances.

Black Marlin states that copies of the filing are being mailed to affected customers and interested State Commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-25564 Filed 10-7-02; 8:45 am]

BILLING CODE 6717-01-P